OFFICE OF THE UNITED STATES TRADE REPRESENTATIVE

Notice of Meeting of the Industry Sector Advisory Committee on Services (ISAC-13)

AGENCY: Office of the United States Trade Representative.

ACTION: Notice of meeting

SUMMARY: The Industry Sector Advisory Committee on Services will hold a meeting on January 23, 2001, from 9 a.m. to 12 noon. The meeting will be opened to the public from 9 a.m. to 9:45 a.m., and closed to the public from 9:45 a.m. to 12 noon.

DATES: The meeting is scheduled for January 23, 2001, unless otherwise notified.

ADDRESSES: The meeting will be held at the Department of Commerce, Conference Room 6057, located at 14th Street between Pennsylvania and Constitution Avenues, NW., Washington, DC.

FOR FURTHER INFORMATION CONTACT: Karen Holderman, (202) 482-0345, Department of Commerce, 14th Street and Constitution Avenue, NW., Washington, DC 20230 (principal contact), or Dominic Bianchi, Office of the United States Trade Representative, 1724 F Street, NW., Washington, DC 20508, (202) 395-6120.

SUPPLEMENTARY INFORMATION: During the opened portion of the meeting the Work Program of the General Agreement on Trade in Services (GATS), and the Proposed Free Trade Agreements between the united States and Singapore and the United States and Chile, will be discussed.

Dominic Bianchi,
Acting Assistant United States Trade Representative for Intergovernmental Affairs and Public Liaison.

[FR Doc. 01-1533 Filed 1-17-01; 8:45 am]

BILLING CODE 3190-01-M